DEPARTMENT OF JUSTICE

[OMB Number 1121-NEW]

Agency Information Collection Activities; Proposed eCollection of eComments Requested; Reinstatement, With Change, of a Previously Approved Collection for Which Approval Has Expired: National Inmate Survey in Jails (NIS-4J)

AGENCY: Bureau of Justice Statistics, Department of Justice.

ACTION: 30-Day notice.

SUMMARY: The Department of Justice (DOJ), Office of Justice Programs, Bureau of Justice Statistics, will be submitting the following information collection request to the Office of Management and Budget (OMB) for review and approval in accordance with the Paperwork Reduction Act of 1995. The proposed information collection was previously published in the Federal Register Volume 87, Number 74, page 22942-22943, on April 18, 2022, allowing a 60-day comment period. Following publication of the 60-day notice, the Bureau of Justice Statistics received three requests for survey instruments and comments from four separate people or organizations. These comments will be addressed in the supporting statement.

DATES: Written comments and recommendations for the proposed information collection should be sent within 30 days of publication of this notice to www.reginfo.gov/public/do/PRAMain. Find this particular information collection by selecting “Currently under 30-day Review—Open for Public Comments” or by using the search function. Comments are encouraged and will be accepted for 30 days until August 19, 2022.

FOR FURTHER INFORMATION CONTACT: If you have additional comments especially on the estimated public burden or associated response time, suggestions, or need a copy of the proposed information collection instrument with instructions or additional information, please contact Amy Lauger, Supervisory Statistician, Institutional Research and Special Projects Unit, Bureau of Justice Statistics, 810 Seventh Street NW, Washington, DC 20531 (email: Amy.Lauger@ojp.usdoj.gov; telephone: 202-307-0711).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Reinstatement, with change, of a previously approved collection. A new OMB number is needed, as this collection was previously under 1121-0311 with the collection of prison data. They are now two separate collections.

2. The Title of the Form/Collection: National Inmate Survey in Jails (NIS-4J).

3. The agency form number, if any, and the applicable component of the Department sponsoring the collection: There is no agency form number at this time. The applicable component within the Department of Justice is the Bureau of Justice Statistics, in the Office of Justice Programs.

4. Affected public who will be asked or required to respond, as well as a brief abstract: Respondents will primarily be State or Local Government entities. The work under this clearance will be used to produce estimates for the incidence and prevalence of sexual victimization within correctional facilities as required under the Prison Rape Elimination Act of 2003 (Public Law 108-79). The Bureau of Justice Statistics uses this information in published reports and for the U.S. Congress, Executive Office of the President, practitioners, researchers, students, the media, and others interested in criminal justice statistics.

In 2003, the Prison Rape Elimination Act (PREA or the Act) was signed into law. The Act requires BJS to “carry out, for each calendar year, a comprehensive statistical review and analysis of the incidence and effects of prison rape.” The Act further instructs BJS to collect survey data: “. . . the Bureau shall . . . use surveys and other statistical studies of current and former inmates. . .”

To implement the Act, BJS developed the National Prison Rape Statistics Program (NPRS), which includes four separate data collection efforts: the Survey on Sexual Violence (SSV), the National Inmate Survey (NIS), the National Survey of Youth in Custody (NSYC), and the National Former Prisoner Survey (NFPS). The NIS collects information on sexual victimization self-reported by inmates held in adult correctional facilities, both prisons and jails. The NIS has been conducted three times, in 2007 (NIS-1), in 2008-09 (NIS-2), and in 2011-12 (NIS-3). Each iteration of NIS was conducted in at least one facility in all 50 states and the District of Columbia. In each iteration of the survey, inmates completed the survey using an audio computer-assisted self-interview (ACASI), whereby they heard questions and instructions via headphones and responded to the survey items via a touchscreen interface.

The collection requested in this notice is the fourth iteration of the National Inmate Survey in Jails. For NIS-4, administration of the survey in prisons will take place separately from survey administration in jails. This collection request is specific to conducting the survey in adult jail facilities.

The survey instrument for the NIS-4 in Jails is slightly modified from the previous iterations. The main difference is the addition of a new set of incident-specific questions administered to respondents who affirmatively indicate they were sexually victimized at some point in the previous 12 months while housed in their current jail facility. These incident-specific questions will provide information to the public on the nature of sexual victimization in jails, such as where incidents occurred within the facility, the relationship between the victim and the alleged perpetrator(s), and whether the victim suffered any injuries as a result of the incident, among other incident characteristics.

5. An estimate of the total number of respondents and the amount of time estimated for an average respondent to respond: Prior to data collection commencing in 2021, BJS will coordinate the logistics of NIS-4 survey administration with staff at jail facilities. Because the administration of this survey in prisons is not included in this request, the overall number of burden hours is lower than in the last request approved in 2010. However, the reported burden also different due to changes in reporting. It is estimated that 290 facility respondents will devote 150 minutes of time to this coordination effort, not including staff escort time. During data collection in 2023, jail staff will escort an estimated 65,360 jail inmates to/from the interviews, which consists of a short consent administration and an approximately 35-minute survey.

6. An estimate of the total public burden (in hours) associated with the collection: This collection was previously approved for implementation in both adult prisons and jails. The current request will only be implemented in adult jails, thereby reducing the total number of facility staff and respondents required to participate. The total estimated NIS-4 Jails public burden, inclusive of facility staff and respondent burden estimates, is 64,010 hours. This comprises 17,065 hours of facility staff burden and 46,945 hours of respondent interviewing burden. This burden estimate assumes 100% participation from both facilities and inmates, but historically both facility and inmate participation have not reached 100%. For purposes of comparison, during Year 3 of the NIS, the total maximum burden was estimated at 68,078 hours for the jail sample. The total burden used was 33,022 hours.

If additional information is required contact: Robert Houser, Assistant Director, United States Department of Justice, Justice Management Division, Policy and Planning Staff, Two Constitution Square, 145 N Street NE, 3E.405A, Washington, DC 20530.

Dated: July 14, 2022.
Robert Houser,
Assistant Director, Policy and Planning Staff, U.S. Department of Justice.

[FR Doc. 2022-15440 Filed 7-19-22; 8:45 am]

BILLING CODE 4410-18-P